DEPARTMENT OF ENERGY

Office of Energy Efficiency and Renewable Energy

Proposed Agency Information Collection

AGENCY: Office of Energy Efficiency and Renewable Energy, Department of Energy.

ACTION: Notice and Request for OMB Review and Comment.

SUMMARY: The Department of Energy (DOE) has submitted to the Office of Management and Budget (OMB) for clearance, a proposal for collection of information under the provisions of the Paperwork Reduction Act of 1995. The proposed collection will enable DOE to understand the universe of organizations participating in four voluntary programs: Zero Energy Ready Home Program, the Better Buildings Residential Network, the Home Energy Score, and the Home Performance with ENERGY STAR Program (HPwES). The information gathered by DOE in these four programs is necessary for DOE to run the programs effectively.

DATES: Comments regarding this collection must be received on or before June 19, 2015. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503.

And to Mr. Chris Early, U.S. Department of Energy, Building Technologies Program, Mail Stop EE-5B, Forrestal Building, 1000 Independence Avenue SW., Washington, DC 20585-0121 or by fax at 202-586-4617 or by email at Chris.Early@ee.doe.gov.

FOR FURTHER INFORMATION CONTACT: Requests for additional information or copies of the information collection instrument and instructions should be directed to Mr. Chris Early, U.S. Department of Energy, Building Technologies Program, Mail Stop EE-5B, Forrestal Building, 1000 Independence Avenue SW., Washington, DC 20585-0121. Chris.Early@ee.doe.gov.

SUPPLEMENTARY INFORMATION: This information collection request contains: (1) OMB No. {“New”}; (2) Information Collection Request Title: Programs for Improving Energy Efficiency in Residential Buildings (3) Type of Request: {New collection.}; (4) Purpose: The collected information will help DOE understand the participating partners' activities and progress toward achieving scheduled milestones enabling DOE to make decisions about the best way to run the programs and respond to partners' needs to improve their operations and actions to lower energy consumption. The proposed collection is for the activities of four Department of Energy programs: Zero Energy Ready Home Program, the Better Buildings Residential Network, the Home Energy Score, and the Home Performance with ENERGY STAR Program. Through these programs DOE encourages and assists the people and organizations that volunteer to participate in them to build and renovate new and existing houses to use less energy. The program partners who voluntarily participate in the programs consist of most of the actors in the home building industry including home owners, home builders, home builder tradesman and associations, home design professionals, students in architecture and related building construction industries, home energy raters, home energy auditors, home inspectors, building consultants, manufacturers of building products, professional trainers, utility companies, home building and manufacturing industry associations, consumer and home building industry advocacy organizations, financial institutions, non-profit organizations, educational institutions, nonprofit organizations, energy program administrators and implementers, Home Performance with ENERGY STAR sponsors, state or local government energy offices or agencies, clean energy non-profits with existing residential energy programs and other organizations who believe peer sharing will help them improve their effectiveness in encouraging homeowners to complete energy upgrades. DOE proposes to collect information about the participants such as their names and addresses, their evaluations of training they received about the programs, descriptions of their qualifications to conduct training for the programs, their plans to get people to participate in the programs, their certifications describing how they can assess homes, estimates of how many homes they can get to participate in the programs, and information about the homes. The DOE published a notice and request for comments related to this current request for OMB clearance to collect information on May 15, 2014 (79 FR 27867) and received no comments. That notice asked for comments for four voluntary programs at DOE, three of which are the same as for this current request for clearance and one is different. The DOE decided not to request clearance to collect information for the Building America Program that was part of that May 15, 2014 request for comments. The DOE, however, added the HPwES program to this current request for clearance. The reason is that operation of part of the HPwES program is to be transferred to the DOE from the Environmental Protection Agency (EPA). The DOE intends to operate HPwES substantially similarly to the way EPA operates the program. The difference in estimates of numbers of responses, number of respondents, burden hours, and costs to respond between the HPwES that was approved by OMB for EPA and the one requested to be approved by DOE are minor. The OMB did give the EPA clearance for collection of information in the HPwES program on August 14, 2014. OMB gave it the ICR Control Number 2060-0586. There are 3 Information Collections associated with that control number.

In place of EPA, DOE wants to collect the information for only one of the three collections associated with Control Number 2060-0586; the one with the Information Collection title “ENERGY STAR Program in the Residential Sector: States and Locals”. EPA did not receive any comments in either the 30 or 60 day Federal Register Notices for that collection of information; (5) Annual Estimated Number of Respondents: 11,585; (6) Annual Estimated Number of Total Responses: 46,909; (7) Annual Estimated Number of Burden Hours: 22,926; (8) Annual Estimated Reporting and Recordkeeping Cost Burden: zero dollars.

Statutory Authority: 42 U.S.C. 16191.

Issued in Washington, DC on May 13, 2015.
Roland J. Risser,
Director, Building Technologies Office, Energy Efficiency and Renewable Energy.

[FR Doc. 2015-12223 Filed 5-19-15; 8:45 am]

BILLING CODE 6450-01-P